DEPARTMENT OF TRANSPORTATION

Federal Highway Administration

Environmental Impact Statement; Hartford County, Connecticut

AGENCY: Federal Highway Administration (FHWA), DOT.

ACTION: Notice of intent.

SUMMARY: The FHWA is issuing this notice to advise the public that an environmental impact statement will be prepared for a proposed highway project in Hartford County, Connecticut.

FOR FURTHER INFORMATION CONTACT: Amy D. Jackson-Grove, Division Administrator, Federal Highway Administration, 628-2 Hebron Avenue, Suite 303, Glastonbury, CT 06033, Telephone: (860) 659-6703.

SUPPLEMENTARY INFORMATION: The FHWA, in cooperation with the Connecticut Department of Transportation (CTDOT), will prepare an environmental impact statement (EIS) on a proposal for transportation improvements on I-84 between Flatbush Avenue (Interchange 45) and I-91 (Interchange 53) in Hartford, Connecticut. The approximate length of the proposed project area is 2.5 miles. The purpose of the proposed project, as currently defined, is to address structural deficiencies, improve traffic operations and safety, and improve mobility on and along the I-84 corridor within the project limits, while maintaining access for the City of Hartford and adjacent communities. The EIS will study a reasonable range of alternatives to address the proposed project's purpose and need. Alternatives under consideration include (1) No Build Alternative; (2) Elevated Highway Alternative (3) Lowered Highway Alternative and (4) Tunneled Highway Alternative. An Internet Web site has been established to provide information on the proposed project and can be accessed at http://www.i84hartford.com.

Public scoping is underway. Agencies, Tribes, and the public are encouraged to submit written comments on the purpose and need, scope of alternatives and impacts. The draft EIS will be available for public and agency review and comment prior to a public hearing. Public notice of the draft EIS and the date and time of the public hearing(s) will be posted on the project Web site and in local the newspapers.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program.)

Issued on: September 20, 2016.
Amy Jackson-Grove,
Division Administrator, Glastonbury, Connecticut.

[FR Doc. 2016-23119 Filed 9-29-16; 8:45 am]

BILLING CODE 4910-22-M